DEPARTMENT OF ENERGY

Federal Energy Regulatory Commission

Combined Notice of Filings

Take notice that the Commission has received the following Natural Gas Pipeline Rate and Refund Report filings:

Filings Instituting Proceedings

Docket Numbers: RP24-534-000.

Applicants: UGI Sunbury, LLC.

Description: 4(d) Rate Filing: Annual Retainage Adjustment 2024 w/Waivers to be effective 4/1/2024.

Filed Date: 3/19/24.

Accession Number: 20240319-5131.

Comment Date: 5 p.m. ET 4/1/24.

Docket Numbers: RP24-535-000.

Applicants: Northwest Pipeline LLC.

Description: 4(d) Rate Filing: Non Conforming Service Agreement—Spotlight to be effective 4/1/2024.

Filed Date: 3/19/24.

Accession Number: 20240319-5171.

Comment Date: 5 p.m. ET 4/1/24.

Docket Numbers: RP24-536-000.

Applicants: Equitrans, L.P.

Description: 4(d) Rate Filing: Negotiated Rate Agreement—4/1/2024 to be effective 4/1/2024.

Filed Date: 3/20/24.

Accession Number: 20240320-5016.

Comment Date: 5 p.m. ET 4/1/24.

Docket Numbers: RP24-537-000.

Applicants: Iroquois Gas Transmission System, L.P.

Description: 4(d) Rate Filing: 3.20.24 Negotiated Rates—Emera Energy Services, Inc. R-2715-86 to be effective 4/1/2024.

Filed Date: 3/20/24.

Accession Number: 20240320-5041.

Comment Date: 5 p.m. ET 4/1/24.

Docket Numbers: RP24-538-000.

Applicants: Iroquois Gas Transmission System, L.P.

Description: 4(d) Rate Filing: 3.20.24 Negotiated Rates—Emera Energy Services, Inc. R-2715-87 to be effective 4/1/2024.

Filed Date: 3/20/24.

Accession Number: 20240320-5046.

Comment Date: 5 p.m. ET 4/1/24.

Docket Numbers: RP24-539-000.

Applicants: Iroquois Gas Transmission System, L.P.

Description: 4(d) Rate Filing: 3.20.24 Negotiated Rates—Koch Energy Services, LLC R-7755-05 to be effective 4/1/2024.

Filed Date: 3/20/24.

Accession Number: 20240320-5049.

Comment Date: 5 p.m. ET 4/1/24.

Docket Numbers: RP24-540-000.

Applicants: Iroquois Gas Transmission System, L.P.

Description: 4(d) Rate Filing: 3.20.24 Negotiated Rates—Koch Energy Services, LLC R-7755-06 to be effective 4/1/2024.

Filed Date: 3/20/24.

Accession Number: 20240320-5052.

Comment Date: 5 p.m. ET 4/1/24.

Docket Numbers: RP24-541-000.

Applicants: Big Sandy Pipeline, LLC, Bobcat Gas Storage, East Tennessee Natural Gas, LLC, Egan Hub Storage, LLC, Garden Banks Gas Pipeline, LLC, Maritimes & Northeast Pipeline, L.L.C., Mississippi Canyon Gas Pipeline, L.L.C., Moss Bluff Hub, LLC, Nautilus Pipeline Company, L.L.C., NEXUS Gas Transmission, LLC, Sabal Trail Transmission, LLC, Saltville Gas Storage Company L.L.C., Southeast Supply Header, LLC, Steckman Ridge, LP, Texas Eastern Transmission, LP, Tres Palacios Gas Storage LLC, Algonquin Gas Transmission, LLC.

Description: Compliance filing: Big Sandy Pipeline, LLC submits tariff filing per 154.203: Enbridge (U.S.) Pipelines—LINK System Maintenance—Request for Waivers 2024 to be effective N/A.

Filed Date: 3/20/24.

Accession Number: 20240320-5058.

Comment Date: 5 p.m. ET 4/1/24.

Docket Numbers: RP24-542-000.

Applicants: Bear Creek Storage Company, L.L.C.

Description: Compliance filing: Annual Report on Operational Transactions 2024 to be effective N/A.

Filed Date: 3/20/24.

Accession Number: 20240320-5087.

Comment Date: 5 p.m. ET 4/1/24.

Docket Numbers: RP24-543-000.

Applicants: Algonquin Gas Transmission, LLC.

Description: 4(d) Rate Filing: Negotiated Rates—Yankee Gas to Emera Energy eff 3-20-24 to be effective 3/20/2024.

Filed Date: 3/20/24.

Accession Number: 20240320-5100.

Comment Date: 5 p.m. ET 4/1/24.

Docket Numbers: RP24-544-000.

Applicants: Portland Natural Gas Transmission System.

Description: 4(d) Rate Filing: Northern Utliites Neg Rate Agreement #284292 to be effective 4/1/2024.

Filed Date: 3/20/24.

Accession Number: 20240320-5103.

Comment Date: 5 p.m. ET 4/1/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.vferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 20, 2024.
Debbie-Anne A. Reese,
Acting Secretary.

[FR Doc. 2024-06426 Filed 3-25-24; 8:45 am]

BILLING CODE 6717-01-P